DEPARTMENT OF COMMERCE

National Oceanic and Atmospheric Administration

Membership of the National Oceanic and Atmospheric Administration Performance Review Board

AGENCY: National Oceanic and Atmospheric Administration (NOAA), Department of Commerce (DOC).

ACTION: Notice of Membership of the NOAA Performance Review Board.

SUMMARY: In accordance with 5 U.S.C. 4314(c)(4), NOAA announces the appointment of members who will serve on the NOAA Performance Review Board (PRB). The NOAA PRB is responsible for reviewing performance appraisals and ratings of Senior Executive Service Professional members and making written recommendations to the appointing authority on retention and compensation matters, including performance-based pay adjustments, awarding of bonuses, and reviewing recommendations for potential Presidential Rank Award nominees. The appointment of new members to the NOAA PRB will be for a period of two (2) years.

DATES: Effective Date: The effective date of service of the five new appointees to the NOAA Performance Review Board is September 30, 2012.

FOR FURTHER INFORMATION CONTACT: Omar Williams, Executive Resources Program Manager, Workforce Management Office, NOAA, 1305 East-West Highway, Silver Spring, Maryland 20910, (301) 713-6301.

SUPPLEMENTARY INFORMATION: The names and positions of the members for the 2012 NOAA PRB are set forth below:

Holly A. Bamford, Chair, Deputy Assistant Administrator for Ocean Services and Coastal Zone Management. National Ocean Service.

Charles S. Baker, Co-Chair, Deputy Assistant Administrator, National Environmental Satellite, Data and Information Service.

Jon P. Alexander, Director, Finance Office/Comptroller.

Russell F. Smith III, Deputy Assistant Secretary for International Fisheries. Office of the Under Secretary.

Tyra Dent Smith, Deputy Director, Office of Human Resources Management. U.S. Department of Commerce.

Mark S. Paese, Director, Office of Operational Systems. Office of Operational Systems, National Weather Service.

Ciaran M. Clayton, Director of Communications Office of the Under Secretary.

Steven S. Fine, Ph.D., Director, Air Resources Laboratory, Office of Air Resources Laboratory, Office of Oceanic and Atmospheric Research.

Dr. Ned Cyr, Director, Office of Science and Technology National Marine Fisheries Service.

Dated: September 24, 2012
Jane Lubchenco,
Under Secretary of Commerce for Oceans and Atmosphere.

[FR Doc. 2012-24230 Filed 10-1-12; 8:45 am]

BILLING CODE 3510-12-P